DEPARTMENT OF THE INTERIOR

Office of Surface Mining Reclamation and Enforcement

30 CFR Part 756

[SPATS No. NA-004-FOR]

Navajo Abandoned Mine Land Reclamation Plan

AGENCY: Office of Surface Mining Reclamation and Enforcement, Interior.

ACTION: Proposed rule; public comment period and opportunity for public hearing on proposed amendment.

SUMMARY: Office of Surface Mining Reclamation and Enforcement (OSM) is announcing receipt of a proposed amendment to the Navajo abandoned mine land reclamation (AMLR) plan (hereinafter, the “Navajo plan”) under the Surface Mining Control and Reclamation Act of 1977 (SMCRA). The Navajo Nation proposes to remove existing rules pertaining to noncoal reclamation after certification and exclusion of certain noncoal sites in view of rules it proposes to add elsewhere in its plan. The Navajo Nation proposes to add rules that will authorize it to: Restore lands and water adversely affected by past mineral mining, providing they reflect certain objectives and priorities; protect, repair, replace, construct, or enhance utilities; construct public facilities in communities impacted by coal and other mineral mining and processing practices; and, following specific criteria for grant applications to meet, request funds for activities or construction of specific public facilities related to the coal or minerals industry on Navajo Nation lands impacted by coal or mineral development. The Navajo Nation also proposes to add new provisions that will: Exclude certain noncoal reclamation sites; apply provisions in its Plan for land acquisition and liens to its noncoal program; establish limited liability provisions; and require every successful bidder for an AML contract to be eligible, as confirmed by OSM's Applicant Violator System, to receive a mining permit at the time of contract award. The Navajo nation intends to revise its plan to be consistent with the corresponding Federal regulations and to authorize it to undertake projects under section 411(f) of the Navajo Abandoned Mine Lands Reclamation Code.

DATES: We will accept written comments on this amendment until 4:00 p.m., Mountain Standard Time April 27, 2001. If requested, we will hold a public hearing on the amendment on April 23, 2001. We will accept requests to speak until 4:00 p.m., Mountain Standard Time April 12, 2001.

ADDRESSES: You should mail or hand deliver written comments and requests to speak at the hearing to Willis Gainer, Albuquerque Field Office Director, at the address listed below.

You may review copies of the Navajo plan, this amendment, a listing of any scheduled public hearings, and all written comments received in response to this document at the addresses listed below during normal business hours, Monday through Friday, excluding holidays. You may receive one free copy of the amendment by contacting OSM's Albuquerque Field Office.

Mr. Willis Gainer, Director, Albuquerque Field Office, Office of Surface Mining Reclamation and Enforcement, 505 Marquette Avenue, N.W., Suite 1200, Albuquerque, New Mexico 87102

Ms. Madeline Roanhorse, Director, Abandoned Mine Land Reclamation Department, The Navajo Nation, P.O. Box 1910, Window Rock, Arizona 86515, Telephone: 520-871-7593

FOR FURTHER INFORMATION CONTACT: Willis Gainer, Albuquerque Field Office Director; telephone: 505-248-5096; e-mail address: wgainer@osmre.gov.

SUPPLEMENTARY INFORMATION:

I. Background on the Navajo Plan

II. Description of the Proposed Amendment

III. Public Comment Procedures

IV. Procedural Determinations

I. Background on the Navajo Plan

On May 16, 1988, the Secretary of the Interior approved the Navajo plan. You can find general background information on the Navajo plan, including the Secretary's findings and the disposition of comments, in the May 16, 1988, Federal Register (53 FR 17186). You can also find later actions concerning the Navajo Nation's plan and plan amendments at 30 CFR 756.14.

II. Description of the Proposed Amendment

By letters dated March 2 and March 8, 2001, the Navajo Nation sent us a proposed amendment to its plan (NA-004-FOR, administrative records numbers NA-255 and NA-256) under SMCRA (30 U.S.C. 1201 et seq.). The Navajo Nation sent the amendment at its own initiative. The full text of the plan amendment is available for you to read at the locations listed above under ADDRESSES.

Specifically, the Navajo Nation proposes the following changes in its Plan:

A. Subsection M.2, noncoal reclamation after certification: The Navajo Nation proposes to remove existing rules at subsection M.2, M.2(a) and M.2(a)(1) through (a)(3) concerning noncoal reclamation after certification. It proposes to remove these rules in view of similar rules it proposes to add at new subsection O.2 in its Plan;

B. Subsection O.1, Exclusion of Noncoal Reclamation Sites: The Navajo Nation proposes to remove this existing rule that does not allow its AML program to fund reclamation of sites and areas designated for remedial action under the Uranium Mill Tailings Radiation Control Act of 1978 (UMTRCA) or that have been listed for remedial action under the Comprehensive Environmental Response Compensation and Liability Act of 1980. It proposes to add an identical provision at subsection O.6 in its Plan;

C. Subsection O, Noncoal Reclamation After Certification: The Navajo Nation proposes to remove the existing section heading, “P. Reserved” and replace it with “O. NONCOAL RECLAMATION AFTER CERTIFICATION;”

1. Proposed subsection O.1 notes that subsection O applies to: Projects that restore lands and water adversely affected by past mineral mining; projects that protect, repair, replace, construct, or enhance utilities or facilities; and construction of public facilities in communities impacted by coal and other mineral mining and processing practices;

2. Proposed subsection O.2 establishes the three objectives and priorities that projects to restore lands and water adversely affected by past mineral mining must reflect;

3. Proposed subsection O.3 provides that enhancement of facilities or utilities (as provided under the second clause of proposed subsection O.1) may include upgrading needed to meet local, State, or Federal public health or safety requirements but it may not include any service area expansion not needed to address a specific abandoned mine land problem;

4. Proposed subsection O.4 authorizes the Navajo Nation to submit a grant application for funds to pay for activities for construction of specific public facilities related to the coal or minerals industry on Navajo Nation lands impacted by coal or mineral development if, notwithstanding the requirements of proposed subsection O.1, the Navajo Nation President (subject to applicable laws) determines they are needed;

5. Proposed subsection O.5 through O.5(h) establish the criteria that the Navajo Nation's grant applications requesting funds under proposed subsection O.4 and section 411(f) of the Navajo Abandoned Mine Lands Reclamation Code must meet;

6. Proposed subsection O.6 prohibits the Navajo Nation from spending AML program funds to reclaim sites and areas designated for remedial action under UMTRCA or listed for remedial action under CERCLA;

7. Proposed subsection O.7 applies the requirements of subsections II.H (Acquisition, Management and Disposition of Lands and Water) and II.J (Rights of Entry) of the Plan to the Navajo Nation's noncoal program using the word “noncoal” in lieu of the word “coal”;

8. Proposed subsection O.8 applies the requirements of subsection II.I (Reclamation on Private Land) to the Navajo Nation's noncoal program using the word “noncoal” in lieu of the word “coal”;

9. Proposed subsection O.9 describes those conditions under which the Navajo Nation will, and will not, be liable under Federal, State, or Tribal law for costs or damages as a result of action taken or omitted in the course of carrying out its Plan; and

10. Proposed subsection O.10 requires every successful bidder for a Navajo AML contract to be eligible at the time of contract award, under OSM's Applicant Violator System, to receive a permit or conditional permit to conduct surface coal mining operations.

III. Public Comment Procedures

Under the provisions of 30 CFR 732.17(h), we request your comments on whether the amendment satisfies the applicable program criteria of 30 CFR 732.15. If we approve the amendment, it will become part of the Navajo program.

Written Comments

Send your written comments to OSM at the address given above. Your written comments should be specific, pertain only to the issues proposed in this rulemaking, and include explanations in support of your recommendations. In the final rulemaking, we will not consider or include in the administrative record any comments received after the time indicated under DATES or at locations other than the Albuquerque Field Office.

Electronic Comments

Please submit Internet comments as an ASCII, WordPerfect, or Word file avoiding the use of special characters and any form of encryption. Please also include “Attn: SPATS No. NA-004-FOR” and your name and return address in your Internet message, contact the Albuquerque Field Office at 505-248-5096.

Availability of Comments

We will make comments, including names and addresses of respondents, available for public review during normal business hours. We will not consider anonymous comments. If individual respondents requested confidentiality, we will honor their request to the extent allowable by law. Individual respondents who wish to withhold their name or address from public review, except for the city or town, must state this prominently at the beginning of their comments. We will make all submissions from organizations or businesses, and from individuals identifying themselves as representatives or officials or organizations or businesses, available for public review in their entirety.

Public Hearing

If you wish to speak at the public hearing, contact the person listed FOR FURTHER INFORMATION CONTACT by 4:00 p.m., Mountain Standard Time, April 12, 2001. If you are disabled and need special accommodations to attend a public hearing, please contact the person listed under FOR FURTHER INFORMATION CONTACT. We will arrange the location and time of the hearing with those persons requesting the hearing. If no one requests an opportunity to speak, we will not hold the hearing.

To assist the transcriber and ensure an accurate record, we request, if possible, that each person who speaks at a public hearing provide us with a written copy of his or her comments. The public hearing will continue on the specified date until everyone scheduled to speak has been heard. If you are in the audience and have not been scheduled to speak and wish to do so, you will be allowed to speak after those who have been scheduled. We will end the hearing after everyone scheduled to speak and others present in the audience who wish to speak, have been heard.

Public Meeting

If only one person requests an opportunity to speak, we may hold a public meeting rather than a public hearing. If you wish to meet with us to discuss the amendment, please request a meeting by contacting the person listed under FOR FURTHER INFORMATION CONTACT. All such meetings will be open to the public and, if possible, we will post notices of meetings at the locations listed under ADDRESSES. We will make a written summary of each meeting a part of the administrative record.

IV. Procedural Determinations

Executive Order 12630—Takings

This rule does not have takings implications. This determination is based on the analysis performed for the counterpart Federal regulations.

Executive Order 12866—Regulatory Planning and Review

This rule is exempted from review by the Office of Management and Budget (OMB) under Executive Order 12866, Regulatory Planning and Review.

Executive Order 12988—Civil Justice Reform

The Department of the Interior conducted the reviews required by section 3 of Executive Order 12988 and determined that, to the extent allowable by law, this rule meets the applicable standards of subsections (a) and (b) of that section. However, these standards are not applicable to the actual language of Tribal AMLR plans and revisions thereof since each such plan is drafted and promulgated by a specific Tribe, not by OSM. Decisions on proposed Tribal AMLR plans and revisions thereof submitted by a Tribe are based on a determination of whether the submittal meets the requirements of Title IV of SMCRA (30 U.S.C. 1231-1243) and the applicable Federal regulations at 30 CFR parts 884 and 888.

National Environmental Policy Act

This rule does not require an environmental impact statement because agency decisions on proposed Tribal AMLR plans and plan revisions are categorically excluded from compliance with the National Environmental Policy Act (42 U.S.C. 4332) by the Manual of the Department of the Interior (516 DM 6, appendix 8, paragraph 8.4B(29)).

Paperwork Reduction act

This rule does not contain information collection requirements that require approval by OMB under the Paperwork Reduction Act (44 U.S.C. 3507 et seq.).

Regulatory Flexibility Act

The Department of the Interior determined that this rule will not have a significant economic impact on a substantial number of small entities under the Regulatory Flexibility Act (5 U.S.C. 601 et seq.). The Tribal submittal that is the subject of this rule is based on counterpart Federal regulations for which an economic analysis was prepared and certification made that such regulations would not have a significant economic effect upon a substantial number of small entities. Accordingly, this rule will ensure that existing requirements established by SMCRA or previously promulgated by OSM will be implemented by the Navajo Nation. In making the determination as to whether this rule would have a significant economic impact, the Department relied on the data and assumptions in the analyses for the corresponding Federal regulations.

Small Business Regulatory Enforcement Fairness Act

This rule is not a major rule under 5 U.S.C. 804(s), the Small Business Regulatory Enforcement Fairness Act. This rule: (a) Does not have an annual effect on the economy of $100 million; (b) Will not cause a major increase in costs or prices of consumers, individual industries, geographic regions, or Federal, State or local governmental agencies; and (c) Does not have significant adverse effects on competition, employment, investment, productivity, innovation, or the ability of U.S.-based enterprises to compete with foreign-based enterprises. This determination is based upon the fact that Navajo Nation submittal that is the subject of this rule is based upon counterpart Federal regulations for which an analysis was prepared and a determination made that the Federal regulation was not considered a major rule.

Unfunded Mandates

OSM determined and certifies under the Unfunded Mandates Reform Act (2 U.S.C. 1502 et seq.) that this rule will not impose a cost of $100 million or more in any given year on any governmental entity or the private sector.

List of Subjects in 30 CFR Part 756

Abandoned mine reclamation programs, Indian lands, Surface mining, Underground mining.

Dated: March 13, 2001.
Brent Wahlquist,
Regional Director, Western Regional Coordinating Center.

[FR Doc. 01-7532 Filed 3-27-01; 8:45 am]

BILLING CODE 4310-05-M